DEPARTMENT OF TRANSPORTATION

Federal Aviation Administration

Notice of Approval of Finding of No Significant Impact (FONSI) on a Short Form Environmental Assessment (EA); Abraham Lincoln Capital Airport; Springfield, IL

AGENCY: Federal Aviation Administration (FAA), DOT.

ACTION: Notice of Approval of Documents.

SUMMARY: The Federal Aviation Administration (FAA) is issuing this notice to advise the public of the approval of a Finding of No Significant Impact (FONSI) on an Environmental Assessment for proposed Federal actions at Abraham Lincoln Capital Airport, Springfield, Illinois. The FONSI specifies that the proposed federal actions and local development projects are consistent with existing environmental policies and objectives as set forth in the National Environmental Policy Act of 1969 and will not significantly affect the quality of the environment.

A description of the proposed Federal actions is: (a) To issue an environmental finding to allow approval of the Airport Layout Plan (ALP) for the development items listed below.

The items in the local airport development project are to: Acquire approximately 40 acres of residential land in fee simple title, including relocation assistance; demolish residential structures on acquired property; construct, light, and mark 1,000-foot northwesterly extension to Taxiway Bravo and connecting taxiway, including grading and drainage; clear and grub taxiway construction area; obtain borrow for Taxiway Bravo extension; implement declared distance concepts for Runway 13/31 to increase the usable length from 7,000 feet to a maximum usable length of 7,400 feet, including remarking; remove obstructions in Runway 13 approach; install/replace runway signage for Runway 13 Precision Approach Path Indicator (PAPI); relocate Runway 13 windcone; replace existing Medium Intensity Runway Lights (HIRLs) with High Intensity Runway Lights (HIRLs) on Runway 13/31; relocate Runway 31 windcone out of the Runway Safety Area; adjust vertically the Runway 31 Medium Intensity Approach Lighting System with Runway Alignment Indicator Lights (MALSR) threshold bar; install new Runway 13/31 homeruns; construct 200-foot by 200-foot blast pad to Runway 31; replace Runway 13/31 surface sensor system; upgrade airfield vault regulators; upgrade Airport Traffic Control Tower (ATCT) airfield lighting control system; and replace airport rotating beacon.

Copies of the environmental decision and the Short Form EA are available for public information review during regular business hours at the following locations:

1. Abraham Lincoln Capital Airport, 1200 Capital Airport Drive, Springfield, IL 62707.

2. Division of Aeronautics-Illinois Department of Transportation, One Langhorne Bond Drive, Capital Airport, Springfield, IL 62707.

3. Federal Aviation Administration, Chicago Airports District Office, 2300 East Devon Avenue, Room 320, Des Plaines, Illinois 60018.

FOR FURTHER INFORMATION CONTACT: Amy B. Hanson, Environmental Protection Specialist, Federal Aviation Administration, Chicago Airports District Office, Room 320, 2300 East Devon Avenue, Des Plaines, Illinois 60018. Ms. Hanson can be contacted at (847) 294-7354 (voice), (847) 294-7046 (facsimile) or by E-Mail at amy.hanson@faa.gov.

Issued in Des Plaines, Illinois on December 21, 2007.
James G. Keefer,
Manager, Chicago Airports District Office, FAA, Great Lakes Region.

[FR Doc. 08-166 Filed 1-17-08; 8:45 am]

BILLING CODE 4910-13-M